DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of September 1, 2020 through September 30, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services From a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Registerunder section 202(f)(3) (19 U.S.C. 2252(f)(3)); OR

(B) notice of an affirmative determination described in subparagraph (B) or (C) of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,395 | API Heat Transfer, Adecco Staffing | Arcade, NY | November 15, 2018.
95,423 | MNSTAR Technologies Inc | Grand Rapids, MN | November 25, 2018.
95,441 | Mitchel and Scott Machine Company, The Mitchel Group, Inc., National Construction Workforce | Indianapolis, IN | December 3, 2018.
95,441A | Tennessee Screw Machine Company, The Mitchel Group, Inc | McMinnville, TN | December 3, 2018.
95,708 | Erie Coke Corporation, Garner LLC, Spresters Industrial Services, Kirchner LLC | Erie, PA | February 19, 2019.
95,725 | Knape & Vogt Manufacturing Company | Grand Rapids, MI | February 19, 2019.
96,052 | Hoya Optical Labs of America, Inc., Safety Rx, Hoya Holding, Hoya, Hire Thinking, Advantage PO, Elwood Staffing | Plymouth, IN | July 13, 2019.
96,100 | Verso Wisconsin Rapids Paper Mill | Wisconsin Rapids, WI | July 24, 2019.
96,110 | Titanium Metals Corporation (TIMET), Precision Castparts Corporation, Aerotek, AppleOne, Manpower | Henderson, NV | July 21, 2019.

The following certifications have been issued. The requirements of Section 222(a)(2)(B) (Shift in Production or Services to a Foreign Country Path or Acquisition of Articles or Services from a Foreign Country Path) of the Trade Act have been met.

TA-W number | Subject firm | Location | Impact date
94,781 | Infocus Corporation, Image Holdings Corporation, Target C.W., Aerotek | Portland, OR | May 3, 2018.
95,157 | California Physicians Service, Blue Shield of California | Lodi, CA | September 4, 2018.
95,236 | Faurecia Automotive Seating, LLC, North America Seating Division, Belflex | Cleveland, MS | September 30, 2018.
95,280 | Haldex Brake Products Corporation, Onin Staffing, Kelly Services, TMS Inc., and Pro Electric LC | Kansas City, MO | October 11, 2018.
95,354 | Goldman Sachs & Co. LLC, Engineering Division, The Goldman Sachs Group, Inc | New York, NY | November 5, 2018.
95,357 | Simonds Saw LLC | Fitchburg, MA | November 5, 2018.
95,364 | Aspect | Phoenix, AZ | November 7, 2018.
95,366 | Distinctive Apparel International (DAI) | Randolph, MA | November 8, 2018.
95,412 | Bluestem Brands Inc., Northstar Portfolio Division, Customer Service Call Center | Saint Cloud, MN | November 22, 2018.
95,434 | HCL America Inc., Digital Process Operations, Engineering, Research and Development Services | Bolingbrook, IL | November 12, 2018.
95,439 | Citibank, N.A., Global Consumer Technology-NAM Application Development, etc | Irving, TX | December 3, 2018.
95,471 | Pancon Corporation, HW Staffing, Monroe Staffing | East Taunton, MA | December 11, 2018.
95,471A | Pancon Corporation, Partners Personnel, Apple One | Temecula, CA | December 11, 2018.
95,537 | State Street Bank & Trust Co., Client Delivery Management, Global Delivery, Global Operations, etc | Irvine, CA | January 6, 2019.
95,537A | State Street Bank & Trust Co., Client Delivery Management, Global Delivery, Global Operations, etc | Sacramento, CA | January 6, 2019.
95,537B | State Street Bank & Trust Co., Client Delivery Management, Global Delivery, Global Operations, etc | Atlanta, GA | January 6, 2019.
95,537C | State Street Bank & Trust Co., Client Delivery Management, Global Delivery, Global Operations, etc | North Quincy, MA | January 6, 2019.
95,537D | State Street Bank & Trust Co., Client Delivery Management, Global Delivery, Global Operations, etc | Boston, MA | January 6, 2019.
95,537E | State Street Bank & Trust Co., Client Delivery Management, Global Delivery, Global Operations, etc | Quincy, MA | January 6, 2019.
95,537F | State Street Bank & Trust Co., Client Delivery Management, Global Delivery, Global Operations, etc | Boston, MA | January 6, 2019.
95,537G | State Street Bank & Trust Co., Client Delivery Management, Global Delivery, Global Operations, etc | North Quincy, MA | January 6, 2019.
95,537H | State Street Bank & Trust Co., Client Delivery Management, Global Delivery, Global Operations, etc | North Quincy, MA | January 6, 2019.
95,537I | State Street Bank & Trust Co., Client Delivery Management, Global Delivery, Global Operations, etc | Boston, MA | January 6, 2019.
95,537J | State Street Bank & Trust Co., Client Delivery Management, Global Delivery, Global Operations, etc | Kansas City, MO | January 6, 2019.
95,537K | State Street Bank & Trust Co., Client Delivery Management, Global Delivery, Global Operations, etc | Kansas City, MO | January 6, 2019.
95,537L | State Street Bank & Trust Co., Client Delivery Management, Global Delivery, Global Operations, etc | Atlanta, GA | January 6, 2019.
95,537M | State Street Bank & Trust Co., Client Delivery Management, Global Delivery, Global Operations, etc | Clifton, NJ | January 6, 2019.
95,537N | State Street Bank & Trust Co., Client Delivery Management, Global Delivery, Global Operations, etc | Princeton, NJ | January 6, 2019.
95,537O | State Street Bank & Trust Co., Client Delivery Management, Global Delivery, Global Operations, etc | New York, NY | January 6, 2019.
95,537P | State Street Bank & Trust Co., Client Delivery Management, Global Delivery, Global Operations, etc | New York, NY | January 6, 2019.
95,537Q | State Street Bank & Trust Co., Client Delivery Management, Global Delivery, Global Operations, etc | New York, NY | January 6, 2019.
95,537R | State Street Bank & Trust Co., Client Delivery Management, Global Delivery, Global Operations, etc | Berwyn, PA | January 6, 2019.
95,678 | Alight Solutions LLC, Tempo Acquisition, Accenture, Jones Lang LaSalle Americas, PWC LLP, etc | Lincolnshire, IL | February 10, 2019.
95,683 | Samsung Austin Semiconductor, LLC, SARC CPU, Samsung Semiconductor, Secure Talent, etc | Austin, TX | February 11, 2019.
95,732 | State Street Bank & Trust Co., Enterprise Recons, State Street Corp., Daley & Associates LLC, Kforce, etc | Quincy, MA | February 25, 2019.
95,806 | United Steel, Inc., Aerotek, Robert Half | East Hartford, CT | March 10, 2019.
95,850 | Hotelbeds USA, Inc., Hotel Operations Group | Orlando, FL | March 25, 2019.
95,948 | U.S. TelePacific Corporation, TPx Communications, Mpower Communications, Mpower Holdings, etc | Saint Louis, MO | May 28, 2019.
95,973 | Dell Technologies Inc., Remote Delivery Engineers (ProDeploy) | Round Rock, TX | June 8, 2019.
95,984 | Computer Operations Technology Solution Design and Sectors, Global Technology Services Division, IBM | Armonk, NY | June 11, 2019.
95,998 | Sonova USA, Inc., Sonova United States Hearing Instruments, LLC, Aerotek | Plymouth, MN | February 29, 2020.
95,998A | Robert Half, Sonova USA, Inc., Sonova United States Hearing Instruments, LLC | Plymouth, MN | June 17, 2019.
96,016 | Dal-Tile Corporation, Mohawk Industries, Peoplemark, Express Employment Services, O&C Services | Lewisport, KY | June 26, 2019.
96,018 | Lee Hecht Harrison, The Adecco Group, Accounting Principals, Modis | Maitland, FL | June 10, 2019.
96,027 | Web.com Group, Inc., Call Center, Siris Capital Group, LLC | Drums, PA | July 1, 2019.
96,036 | Treasury Wine Estates, Americas Company, Support Services, Bolt, Zorang, Robert Half, Nelson, Eurest Services, etc | Napa, CA | July 1, 2019.
96,041 | Advance Auto Business Support LLC, Accounting Department, Advance Stores Company, Inc., Greene Resources | Roanoke, VA | July 7, 2019.
96,051 | GHD Services Inc., Finance Department, GHD Holdings U.S. LLC, GHD Group Limited, Adecco | Niagara Falls, NY | July 10, 2019.
96,068 | Halliburton Energy Services, Inc., Procurement and Logistics, a subsidiary of Halliburton Company | Duncan, OK | July 17, 2019.
96,076 | Watlow Electric Manufacturing Company, Express Employment Professionals | Richmond, IL | July 21, 2019.
96,094 | BASF Erie, Catalysts Division, BASF, BCforward, Computech, Hunter International, etc | Erie, PA | July 23, 2019.
96,117 | Secure Contact Solutions, LLC, Vesta Corporation, Express Services | Alpharetta, GA | July 31, 2019.
96,139 | Waupaca Foundry, Inc., Hitachi Metals America, Ltd., Express Employment Professionals | Lawrenceville, PA | August 12, 2019.
96,140 | Maxion Wheels Akron LLC, Maxion Wheels USA LLC | Akron, OH | August 13, 2019.
96,149 | Titanium Metals Corporation (TIMET), Precision Castparts Corporation, Manpower | Toronto, OH | August 17, 2019.
96,152 | Comcast Technology Solutions, LLC, Content and Streaming Provider Solutions, Comcast Cable Communications, etc | Seattle, WA | August 18, 2019.
96,156 | Rassini Chassis Systems LLC, Rassini International | Montpelier, OH | August 21, 2019.
96,159 | QIAGEN Sciences LLC | Frederick, MD | August 25, 2019.
96,190 | Nordson Medical, Medical, Nordson, Adecco Staffing, CoWorx Staffing, etc | Marlborough, MA | September 3, 2019.

The following certifications have been issued. The requirements of Section 222(b) (supplier to a firm whose workers are certified eligible to apply for TAA) of the Trade Act have been met.

TA-W No. | Subject firm | Location | Impact date
96,054 | Constellium Rolled Products Ravenswood LLC, A&T Division, Constellium SE, Plexus Scientific Corporation | Ravenswood, WV | July 13, 2019.
96,056 | Spirit Aerosystems Inc., APC Workforce Solutions LLC, Workforce Logiq, ZeroChaos, Acro Service, etc | Tulsa, OK | July 13, 2019.
96,056A | Spirit Aerosystems Inc., APC Workforce Solutions LLC, Workforce Logiq, ZeroChaos, Acro Service, etc | McAlester, OK | July 13, 2019.
96,089 | Valent Aerostructures, LMI Aerospace | Fredonia, KS | July 23, 2019.
96,131 | Mid Continent Controls, Inc. | Derby, KS | August 10, 2019.
96,133 | Toray Composite Materials America, Inc., Toray Industries America, Inc | Tacoma, WA | August 8, 2019.
96,155 | Heroux Devtek, Inc., APPH Wichita, Inc. Division, Heroux Corporation, The Arnold Group | Wichita, KS | August 24, 2019.
96,178 | Clearwater Engineering, Inc | Derby, KS | September 3, 2019.

The following certifications have been issued. The requirements of Section 222(e) (firms identified by the International Trade Commission) of the Trade Act have been met.

TA-W No. | Subject firm | Location | Impact date
95,185 | Carrara Stone Systems of Chicago, LLC, Stone Systems of Chicago, TRS Staffing Solutions, Flextek Resources, etc | Mundelein, IL | July 5, 2018.
95,990 | ACProducts, Inc. dba Cabinetworks Group, Peoplelink Staffing | Culver, IN | April 17, 2019.
96,013 | Pacific | Cheriton, VA | December 12, 2018.
96,023 | Pratt + Larson Ceramics | Portland, OR | May 28, 2019.
96,079 | Cambria Company LLC, Cambria Fabshop Minnesota LLC | Belle Plaine, MN | June 19, 2019.
96,079A | Cambria Company LLC | Le Sueur, MN | July 6, 2020.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
96,150 | United States Steel Corporation, Annandale Archive Division, United States Steel Corporation | Boyers, PA

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,510 | Fiserv, Inc., Payments and Industry Products, Randstad Sourceright, Fiserv Solutions | Beaverton, OR

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,958 | Atos IT Solutions and Services, Inc. | Clovis, NM
95,047 | Atos It Solutions and Services, Inc., IT Operations and Application Support Division | Webster, NY
95,219 | Wisconsin Label Corporation, WS Packaging Group Inc., Multi-Color Corporation, Kelly Services | Rochester, NY
95,228 | Meryl Diamond Ltd | New York, NY
95,267 | Calaway Trading Inc | Saint Helens, OR
95,404 | Shiru Cafe, Enrisson Inc | Amherst, MA
95,428 | Acumed LLC, Colson Medical, Campus Point, Beacon, Robert Half, Terra Staffing, Oxford | Hillsboro, OR
95,463 | STORServer, Inc | Colorado Springs, CO
95,595 | Full Circle Recycling LLC, American Labor Services | Johnston, RI
95,773 | HKT Teleservices (US), Inc., Celebrity Staff, Express Employment Professionals | Lincoln, NE
96,099 | Adidas Indy LLC, Distribution Center, Reebok International, MSIL Staffing and Packaging, etc | Indianapolis, IN

Determinations Terminating Investigations of Petitions for Trade Adjustment Assistance

After notice of the petitions was published in the Federal Register and on the Department's website, as required by Section 221 of the Act (19 U.S.C.2271), the Department initiated investigations of these petitions.

The following determinations terminating investigations were issued because the worker group on whose behalf the petition was filed is covered under an existing certification.

TA-W No. | Subject firm | Location | Impact date
96,000 | IBM, Jones Lang LaSalle Incorporated (JLL), Allied Universal Security Systems, Thomson Reuters | Rochester, NY

I hereby certify that the aforementioned determinations were issued during the period of September 1, 2020 through September 30, 2020. These determinations are available on the Department's website https://www.doleta.gov/tradeact/petitioners/taa_search_form.cfm under the searchable listing determinations or by calling the Office of Trade Adjustment Assistance toll free at 888-365-6822.

Signed at Washington, DC, this 8th day of October 2020.
Hope D. Kinglock,
Certifying Officer, Office of Trade Adjustment Assistance.

[FR Doc. 2020-23622 Filed 10-23-20; 8:45 am]

BILLING CODE 4510-FN-P